FEDERAL COMMUNICATIONS COMMISSION

Notice of Public Information Collection(s) being Reviewed by the Federal Communications Commission for Extension Under Delegated Authority, Comments Requested

September 25, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by December 4, 2001. If you anticipate that you will be submitting comments, but find it difficult to do so within the period of time allowed by this notice, you should advise the contact listed below as soon as possible.

ADDRESSES: Direct all comments to Judy Boley, Federal Communications Commission, 445 12th Street, SW, Room 1-C804, Washington, DC 20554 or via internet to jboley@fcc.gov.

FOR FURTHER INFORMATION CONTACT: For additional information or copies of the information collections contact Judy Boley at 202-418-0214 or via internet at jboley@fcc.gov.

SUPPLEMENTARY INFORMATION: OMB Control No: 3060-0391.

Title: Program to Monitor the Impacts of the Universal Service Support Mechanisms, CC Docket Nos. 98-202 and 96-45.

Form No.: N/A.

Type of Review: Extension of a currently approved collection.

Respondents: Business or other for-profit.

Number of Respondents: 500.

Estimated Time Per Response: 3.4 hours (avg. per response).

Frequency of Response: Annual reporting requirement.

Cost to Respondent: N/A.

Total Annual Burden: 1,718 hours.

Needs and Uses: The Commission has a program to monitor the impacts of the universal service support mechanisms. The program requires the annual reporting of information regarding network usage and growth by certain companies to the National Exchange Carrier Association (NECA). The information is used by the Commission, Federal-State Joint Boards, Congress, and the general public to assess the impact of the decisions of the Commission and the Joint Boards.

OMB Control No: 3060-0665.

Title: Section 64.707, Public Dissemination of Information by Providers of the Operator Services.

Form No.: N/A.

Type of Review: Extension of a currently approved collection.

Respondents: Business or other for-profit.

Number of Respondents: 436.

Estimated Time Per Response: 4 hours (avg. per response).

Frequency of Response: On occasion reporting requirement and third party disclosure requirement.

Cost to Respondent: N/A.

Total Annual Burden: 1,744 hours.

Needs and Uses: As required by 47 U.S.C. Section 226(d)(4)(b), 47 CFR Section 64.707 provides that operator service providers must regularly publish and make available upon request from consumers written materials that describe any changes in operator services and choices available to consumers. Consumers use the information to increase their knowledge of the choices available to them in the operator services marketplace.

Federal Communications Commission.
Magalie Roman Salas,
Secretary.

[FR Doc. 01-24951 Filed 10-4-01; 8:45 am]

BILLING CODE 6712-01-P